ENVIRONMENTAL PROTECTION AGENCY

40 CFR Part 300

[EPA-HQ-SFUND-1983-0002; FRL-9999-95-Region 6]

National Oil and Hazardous Substances Pollution Contingency Plan; National Priorities List: Partial Deletion of the South Valley Superfund Site

AGENCY: Environmental Protection Agency (EPA).

ACTION: Final rule.

SUMMARY: The Environmental Protection Agency (EPA) Region 6 announces the deletion of Operable Units 1, 2, and 5 of the South Valley Superfund Site (Site) located in Albuquerque, New Mexico, from the National Priorities List (NPL). The NPL, promulgated pursuant to Section 105 of the Comprehensive Environmental Response, Compensation, and Liability Act (CERCLA) of 1980, as amended, is an appendix of the National Oil and Hazardous Substances Pollution Contingency Plan (NCP). This partial deletion pertains to Operable Units 1, 2, and 5. Operable Units 3, 4, and 6 will remain on the NPL and are not being considered for deletion as part of this action. The EPA and the State of New Mexico, through the New Mexico Environment Department, have determined that all appropriate response actions under CERCLA, other than operation and maintenance and five-year reviews, have been completed. However, this partial deletion does not preclude future actions under Superfund.

DATES: This action is effective September 23, 2019.

ADDRESSES: EPA has established a docket for this action under Docket Identification No. EPA-HQ-SFUND-1983-0002. All documents in the docket are listed on the https://www.regulations.gov website. Although listed in the index, some information is not publicly available, i.e., Confidential Business Information or other information whose disclosure is restricted by statute. Certain other material, such as copyrighted material, is not placed on the internet and will be publicly available only in hard copy form. Publicly available docket materials are available either electronically through https://www.regulations.gov or in hard copy at the site information repositories. Locations, contacts, phone numbers and viewing hours are:

Zimmerman Library, Government Information Department University of New Mexico, Albuquerque NM 87131, 505.277.9100, Monday-Thursday—7 a.m.- 2 a.m., Friday—7 a.m.-9 p.m., Saturday—10 a.m.-6 p.m., Sunday—12 p.m.-2 a.m.

New Mexico Environment Department, Harold Runnels Building, 1190 St. Francis Drive, Santa Fe, NM 87505, 505.827.2855, Monday-Friday 8 a.m.-5 p.m.

FOR FURTHER INFORMATION CONTACT: Michael A. Hebert, Remedial Project Manager, U.S. Environmental Protection Agency, Region 6, Mailcode—SEDRL, 1201 Elm Street, Dallas, Texas 75270-2102, 214-665-8315, email: hebert.michael@epa.gov.

SUPPLEMENTARY INFORMATION: The portion of the site to be deleted from the NPL is: Operable Units 1, 2, and 5 of the South Valley Superfund Site, Albuquerque, New Mexico. A Notice of Intent for Partial Deletion for this Site was published in the Federal Register (83 FR 36838) on July 31, 2018.

The closing date for comments on the Notice of Intent for Partial Deletion was August 30, 2018. Based upon comments, the EPA conducted an informational meeting on December 11, 2018, in Albuquerque, New Mexico, to provide information to the public concerning the proposed partial deletion. Subsequently, the EPA reopened the public comment period published in the Federal Register (84 FR 33721) on July 15, 2019. The closing date for comments from the reopened comment period was August 14, 2019. All comments received since the July 31, 2018, Notice of Intent for Partial Deletion were considered by the EPA. Thirty-four comments, generally addressing the partial deletion process, were received during two public comment periods. The comments did not contain information indicating that the response actions for Operable Units 1, 2, and 5 did not meet the Site remedy decision requirements, or that these portions of the Site do not otherwise satisfy EPA criteria for partial deletion (included in Section 300.425(e) of the NCP and consistent with the Notice of Policy Change: Partial Deletion of Sites Listed on the NPL, 60 FR 55466 (Nov. 1, 1995)). Therefore, the EPA has determined that Operable Units 1, 2, and 5, will be deleted from the National Priorities List. A responsiveness summary was prepared and placed in both the docket, EPA-HQ-SFUND-1983-0002, on www.regulations.gov, and in the local repositories listed above.

EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: September 10, 2019.
Ken McQueen,
Regional Administrator, Region 6.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. Table 1 of appendix B to part 300 is amended by revising the entry for “NM, South Valley” to read as follows:

Appendix B to Part 300—National Priorities List

Table 1—General Superfund Section
State | Site name | City/county | Notes ᵃ
* * * * * * *
NM | South Valley | Albuquerque | P
* * * * * * *
ᵃ Based on issuance of health advisory by Agency for Toxic Substances and Disease Registry (if scored, HRS score need not be greater than or equal to 28.50).
* * * * * * *
P = Sites with partial deletion(s).

* * * * *

[FR Doc. 2019-20193 Filed 9-20-19; 8:45 am]

BILLING CODE 6560-50-P